Proclamation 9960 of October 31, 2019

National Family Caregivers Month, 2019

By the President of the United States of America

A Proclamation

Selfless Americans across our country consistently dedicate themselves and their resources to providing ailing and aging loved ones with the care and support they need to live in their own homes and communities. Throughout National Family Caregivers Month, we pause to recognize the men and women who tirelessly work to improve the quality of life for Americans in need of care.

Caregivers help their family members live fulfilling lives by providing vital assistance in domestic, financial, and medical affairs. The responsibility of serving and supporting another person can be challenging, and the strength and compassion exhibited by caregivers is one of the greatest manifestations of genuine love we witness in this world. Their unrelenting support enables family members to live with dignity.

As we honor the innumerable sacrifices made in homes across the country, we affirm our resolve to ensure all caregivers are given the resources and respect they deserve. This support requires a commitment from community stakeholders and Federal, State, and local governments to equip caregivers with training and tools to use to safeguard their family's health and security. This past summer, the Administration for Community Living held the inaugural meetings of the Family Caregiving Advisory Council and the Advisory Council to Support Grandparents Raising Grandchildren. The strategies, informational resources, and technical assistance being developed by these councils will strengthen our Nation's support for family caregivers and their work enhancing the lives of millions of Americans.

This November, we recognize and honor the commitment of those who exemplify the essential American tenets of devotion to family and compassion toward those who matter most in our lives. Through caregivers' generosity, our vulnerable communities are able to fully experience the many blessings of our great Nation.

NOW, THEREFORE, I, DONALD J. TRUMP, President of the United States of America, by virtue of the authority vested in me by the Constitution and the laws of the United States do hereby proclaim November 2019 as National Family Caregivers Month. I encourage all Americans to reach out to those who provide care for their family members, friends, and neighbors in need, to honor and thank them.

IN WITNESS WHEREOF, I have hereunto set my hand this thirty-first day of October, in the year of our Lord two thousand nineteen, and of the Independence of the United States of America the two hundred and forty-fourth.

[FR Doc. 2019-24280

Filed 11-4-19; 11:15 am]

Billing code 3295-F0-P